DEPARTMENT OF HEALTH AND HUMAN SERVICES

National Institutes of Health

Charter Amendments, Establishments, Reestablishments, Renewals, and Terminations; Sickle Cell Advisory Committee

Pursuant to Title 41 of the U.S. Code of Federal Regulations, Section 102-3.65(a), the Director, National Institutes of Health (NIH) announces the reestablishment of the Sickle Cell Disease Advisory Committee as authorized by 42 U.S.C. 282(b)(16), section 402(b)(16) of the Public Health Service Act, as amended.

The Director, NIH, has determined that the current activities of the Sickle Cell Disease Advisory Committee are in the public interest in connection with the performance of duties imposed on NIH by law, and that these duties can best be performed through the advice and counsel of the committee.

This committee makes recommendations on research priorities conducted or supported by the National Heart, Lung, and Blood Institute (NHLBI). The Committee also makes recommendations about long range plans of basic, clinical, applied, health education, and prevention related research concerning the scientific aspects of research programs on the nature, causes, diagnosis, treatment, and prevention of Sickle Cell Disease (SCD). By making informed recommendations on research priorities and long-range plans that span basic, clinical, applied, health education, and prevention research, the committee members play a pivotal role in addressing the impact of SCD on individuals.

Inquiries may be directed to Patricia Hansberger, Acting Director, Office of Federal Advisory Committee Policy, Office of the Director, National Institutes of Health, 6701 Democracy Boulevard, Suite 1000, Bethesda, Maryland 20892 (Mail code 4875), Telephone (301) 594-2492, or brandtp@od.nih.gov.

(Catalogue of Federal Domestic Assistance Program Nos. 93.233, National Center for Sleep Disorders Research; 93.837, Heart and Vascular Diseases Research; 93.838, Lung Diseases Research; 93.839, Blood Diseases and Resources Research, National Institutes of Health, HHS)

Dated: January 16, 2026.
Jayantha Bhattacharya,
Director, National Institutes of Health.

[FR Doc. 2026-01313 Filed 1-22-26; 8:45 am]

BILLING CODE 4140-01-P